DEPARTMENT OF HOMELAND SECURITY

Coast Guard

33 CFR Part 174

[USCG-2003-15708]

RIN 1625-AA75

Terms Imposed by States on Numbering of Vessels

AGENCY: Coast Guard, DHS.

ACTION: Final rule; correction.

SUMMARY: The Coast Guard is correcting the preamble to a final rule that appeared in the Federal Register of March 18, 2005 (70 FR 13102). The final rule expands the number of conditions that a State may require in order for owners to obtain vessel numbering certificates in that State. The preamble to the final rule contains an error in the regulatory evaluation.

DATES: Effective April 18, 2005.

FOR FURTHER INFORMATION CONTACT: Audrey Pickup, Office of Boating Safety, at Coast Guard Headquarters, telephone 202-267-0872.

SUPPLEMENTARY INFORMATION: In rule FR Doc. 04-28227 published in the Federal Register of March 18, 2005 (70 FR 13104), correct the two paragraphs that appear on page 13104 under the heading “Regulatory Evaluation” to read:

“This final rule is not a ‘significant regulatory action’ under section 3(f) of Executive Order 12866, Regulatory Planning and Review, and does not require an assessment of potential costs and benefits under section 6(a)(3) of that Order. The Office of Management and Budget (OMB) has not reviewed it under that Order.

“We expect the economic impact of this rule to be so minimal that a full Regulatory Evaluation is unnecessary.”

Dated: March 22, 2005.
Steve Venckus,
Chief, Regulations and Administrative Law, United States Coast Guard, DHS.

[FR Doc. 05-5968 Filed 3-25-05; 8:45 am]

BILLING CODE 4910-15-P